DEPARTMENT OF THE INTERIOR

Fish and Wildlife Service

Receipt of Applications for Endangered Species Act Enhancement of Survival Permits Developed in Accordance With a Template Safe Harbor Agreement for the Columbia Basin Pygmy Rabbit

AGENCY: Fish and Wildlife Service, Interior.

ACTION: Notice of receipt of applications.

SUMMARY: The U.S. Fish and Wildlife Service (Service) announces the receipt of thirteen applications for enhancement of survival permits that would be issued pursuant to section 10(a)(1)(A) of the Endangered Species Act of 1973, as amended (Act). The applications were developed in conjunction with a Template Safe Harbor Agreement (Template SHA) for the Columbia Basin pygmy rabbit (Brachylagus idahoensis). The thirteen permit applicants are: (1) Mr. Raymond Mayer; (2) Rimrock Meadows Association; (3) ABS Farms LLC; (4) Sagebrush Flats Farm; (5) Mr. Eric Long; (6) Mr. W. Paul Malone; (7) Tom Davis Farms J.V.; (8) Mr. Dale Pixlee; (9) Clements Farm, Inc.—JBS Farms; (10) Heer Brothers J.V.; (11) Mr. Don Roberts; (12) David Adams Family LLC; and (13) Evans Brothers J.V. Issuance of permits to these applicants would exempt incidental take of the Columbia Basin pygmy rabbit, which would otherwise be prohibited by section 9 of the Act, that is above the baseline conditions of properties enrolled under the Template SHA, and that may result from the permittees' otherwise lawful land-use activities. The Service requests comments from the public regarding the proposed issuance of permits to these thirteen applicants. Before including your address, phone number, e-mail address, or other personal identifying information in your comment, you should be aware that your entire comment—including your personal identifying information—may be made publicly available at any time. While you can ask us in your comment to withhold your personal identifying information from public review, we cannot guarantee that we will be able to do so.

DATES: To be fully considered, written comments from interested parties must be received on or before May 25, 2007.

ADDRESSES: Written comments concerning this notice should be addressed to Susan Martin, Supervisor, U.S. Fish and Wildlife Service, Upper Columbia Fish and Wildlife Office, 11103 East Montgomery Drive, Spokane, Washington 99206. You may also send comments by facsimile, at (509) 891-6748, or by electronic mail, at: fw1cbprabbit@fws.gov.

FOR FURTHER INFORMATION CONTACT: Chris Warren at (509) 893-8020, or Michelle Eames at (509) 893-8010.

SUPPLEMENTARY INFORMATION:

Availability of Documents

Copies of the thirteen permit applications, the final Template SHA, and other relevant documents are available for public inspection, by appointment, during normal business hours at the Upper Columbia Fish and Wildlife Office (see ADDRESSES), or they may be viewed on the internet at the following address: http:// www.fws.gov/easternwashington/. You may also request copies of the documents by contacting the Service's Upper Columbia Fish and Wildlife Office [see FOR FURTHER INFORMATION CONTACT]. The Service is furnishing this notice to provide the public, other State and Federal agencies, and interested Tribes an opportunity to review and comment on these applications. All comments received will become part of the public record. If you wish us to withhold your name and/or address to the extent allowable under law, you must state this prominently at the beginning of your comments. All comments received from organizations, businesses, or individuals representing organizations or businesses are available for public inspection in their entirety.

Background

On September 7, 2006, the Service announced the availability for public review and comment of a draft Template SHA for the Columbia Basin pygmy rabbit, which was jointly developed by the Service and the Washington Department of Fish and Wildlife (WDFW), and a draft Environmental Assessment, which was developed by the Service pursuant to Federal responsibilities under the National Environmental Policy Act. The Service's September 7, 2006, notice also announced the receipt of three Permit applications that were developed in accordance with the Template SHA (71 FR 52816). The final Template SHA, which contained only minor modifications from the draft released for public review, was signed by the Service and WDFW on October 24, 2006.

The primary objective of the Template SHA is to facilitate collaboration between the Service, WDFW, and prospective participants to voluntarily implement conservation measures to benefit the Columbia Basin pygmy rabbit. Another objective of the Template SHA is to facilitate the processing of enhancement of survival permit applications that would provide incidental take coverage for participants to relieve them of additional section 9 liability under the Act if implementation of their conservation measures results in increased numbers or distribution of Columbia Basin pygmy rabbits on their enrolled properties.

This notice is provided pursuant to section 10(c) of the Act. The Service has previously determined that implementation of the Template SHA will result in conservation benefits to the Columbia Basin pygmy rabbit and will not result in significant effects to the human environment. The Service will evaluate the thirteen permit applications noticed herein, related documents, and any comments submitted thereon to determine whether they are consistent with the measures prescribed by the Template SHA and comply with relevant statutory and regulatory requirements. If it is determined that the requirements are met, permits to exempt incidental take of the Columbia Basin pygmy rabbit will be issued to the applicants. The final permit determinations will not be completed until after the end of the 30-day comment period, and will fully consider all comments received.

Dated: April 19, 2007.
David J. Wesley,
Deputy Regional Director, Region 1, U.S. Fish and Wildlife Service, Portland, Oregon.

[FR Doc. E7-7899 Filed 4-24-07; 8:45 am]

BILLING CODE 4310-55-P